DEPARTMENT OF ENERGY

Federal Energy Regulatory Commission

Combined Notice of Filings #1

Take notice that the Commission received the following electric corporate filings:

Docket Numbers: EC12-82-000.

Applicants: Ridgeline Alternative Energy, LLC, Wolverine Creek Goshen Interconnection LLC.

Description: Errata Letter to Submit Revised Exhibit B.

Filed Date: 3/21/12.

Accession Number: 20120321-5175.

Comments Due: 5 p.m. ET 4/6/12.

Docket Numbers: EC12-83-000.

Applicants: Goshen Phase II LLC, Ridgeline Alternative Energy, LLC.

Description: Errata Letter to Submit Revised Exhibit B.

Filed Date: 3/21/12.

Accession Number: 20120321-5176.

Comments Due: 5 p.m. ET 4/9/12.

Take notice that the Commission received the following electric rate filings:

Docket Numbers: ER10-1484-003.

Applicants: Shell Energy North America (US), L.P.

Description: Notice of Change in Status of Shell Energy North America (US), L.P.

Filed Date: 3/21/12.

Accession Number: 20120321-5185.

Comments Due: 5 p.m. ET 4/11/12.

Docket Numbers: ER12-726-001.

Applicants: Spring Valley Wind LLC.

Description: Supplement to Amended Application for Market-Based Rate Authority of Spring Valley Wind LLC.

Filed Date: 3/21/12.

Accession Number: 20120321-5180.

Comments Due: 5 p.m. ET 4/11/12.

Docket Numbers: ER12-1170-001.

Applicants: Imperial Valley Solar Company (IVSC) 1, LLC.

Description: Amended Market-Based Rate Tariff of IVSC 1 to be effective 2/28/2012.

Filed Date: 3/21/12.

Accession Number: 20120321-5162.

Comments Due: 5 p.m. ET 4/11/12.

Docket Numbers: ER12-1305-000.

Applicants: California Independent System Operator Corporation.

Description: 2013-03-21 CAISOs LGIA with Nevada Hydro and SDGE to be effective 5/21/2012.

Filed Date: 3/21/12.

Accession Number: 20120321-5125.

Comments Due: 5 p.m. ET 4/11/12.

Docket Numbers: ER12-1306-000.

Applicants: PJM Interconnection, L.L.C.

Description: Original Service Agreement No. 3262; Queue No. W4-068 to be effective 2/28/2012.

Filed Date: 3/21/12.

Accession Number: 20120321-5127.

Comments Due: 5 p.m. ET 4/11/12.

Docket Numbers: ER12-1307-000.

Applicants: Oklahoma Gas and Electric Company.

Description: Ministerial Filing to be effective 3/22/2012.

Filed Date: 3/21/12.

Accession Number: 20120321-5128.

Comments Due: 5 p.m. ET 4/11/12.

Docket Numbers: ER12-1308-000.

Applicants: Palouse Wind, LLC.

Description: Palouse Wind, LLC Market-Base Rate Tariff to be effective 5/20/2012.

Filed Date: 3/21/12.

Accession Number: 20120321-5144.

Comments Due: 5 p.m. ET 4/11/12.

Docket Numbers: ER12-1309-000.

Applicants: New England Power Company.

Description: Local Service Agreement with Templeton Municipal Light Plant to be effective 3/1/2012.

Filed Date: 3/21/12.

Accession Number: 20120321-5146.

Comments Due: 5 p.m. ET 4/11/12.

Docket Numbers: ER12-1310-000.

Applicants: PJM Interconnection, L.L.C.

Description: Original Service Agreement No. 3261; Queue No. W3-045 to be effective 2/27/2012.

Filed Date: 3/21/12.

Accession Number: 20120321-5152.

Comments Due: 5 p.m. ET 4/11/12.

Docket Numbers: ER12-1311-000.

Applicants: Stetson Holdings, LLC.

Description: Notice of Succession to be effective 3/22/2012.

Filed Date: 3/21/12.

Accession Number: 20120321-5156.

Comments Due: 5 p.m. ET 4/11/12.

Docket Numbers: ER12-1312-000.

Applicants: California Independent System Operator Corporation.

Description: Notice of the California ISO of Termination of Large Generator Interconnection Agreement Among the Nevada Hydro Company, Inc.; San Diego Gas & Electric Company; and the California Independent System Operator Corporation.

Filed Date: 3/21/12.

Accession Number: 20120321-5183.

Comments Due: 5 p.m. ET 4/11/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2012.
Nathaniel J. Davis, Sr.,
Deputy Secretary.

[FR Doc. 2012-7779 Filed 3-30-12; 8:45 am]

BILLING CODE 6717-01-P